DEPARTMENT OF STATE

Office of the Secretary

[Public Notice 3920]

Extension of the Restriction on the Use of United States Passports for Travel To, In or Through Iraq

On February 1, 1991, pursuant to the authority of 22 U.S.C. 211a and Executive Order 11295 (31 FR 10603), and in accordance with 22 CFR 51.73(a)(2) and (a)(3), all United States passports, with certain exceptions, were declared invalid for travel to, in, or through Iraq unless specifically validated for such travel. The restriction was originally imposed because armed hostilities then were taking place in Iraq and Kuwait, and because there was an imminent danger to the safety of United States travelers to Iraq. American citizens then residing in Iraq and American professional reporters and journalists on assignment there were exempted from the restriction on the ground that such exemptions were in the national interest. The restriction has been extended for additional one-year periods since then, and was last extended through February 28, 2002.

Conditions in Iraq remain hazardous for Americans. Iraq continues to refuse to comply with UN Security Council resolutions to fully declare and destroy its weapons of mass destruction and missiles while mounting a virulent public campaign in which the United States is blamed for maintenance of U.N. sanctions. The United Nations has withdrawn all U.S. citizen UN humanitarian workers from Iraq because of the Government of Iraq's stated inability to protect their safety. Iraq regularly fires anti-aircraft artillery and surface-to-air missiles at U.S. and coalition aircraft patrolling the no-fly zones over northern and southern Iraq, and regularly illuminates U.S. and coalition aircraft with target-acquisition radar.

U.S. citizens and other foreigners working inside Kuwait near the Iraqi borders have been detained by Iraqi authorities in the past and sentenced to lengthy jail terms for alleged illegal entry into the country. Although our interests are represented by the Embassy of Poland in Baghdad, its ability to obtain consular access to detained U.S. citizens and to perform emergency services is constrained by Iraqi unwillingness to cooperate. In light of these circumstances, and pursuant to the authorities set forth in 22 U.S.C. 211a, Executive Order 11295, and 22 CFR 51.73, I have determined that Iraq continues to be a country “where there is imminent danger to the public health or physical safety of United States travelers”.

Accordingly, United States passports shall continue to be invalid for travel to, or for use in, Iraq unless specifically validated for such travel under the authority of the Secretary of State. The proposed extension will continue to exclude from its coverage persons resident in Iraq since February 1, 1991, and professional journalists. In the absence of the exclusion, those journalists and long-time residents would have to apply for specific validations; we would expect to grant any such requests, and therefore see no reason to revisit the exclusion.

The Public Notice shall be effective from the date it is published in the Federal Register and shall expire at midnight on February 28, 2003, unless sooner extended or revoked by Public Notice.

Dated: February 13, 2002.
Colin L. Powell,
Secretary of State, Department of State.

[FR Doc. 02-4419 Filed 2-22-02; 8:45 am]

BILLING CODE 4710-10-P